ENVIRONMENTAL PROTECTION AGENCY

[FRL-7606-4]

Grant Warehouse Time-Critical Removal Site Notice of Proposed Administrative Settlement

AGENCY: Environmental Protection Agency (EPA).

ACTION: Notice; request for public comment.

SUMMARY: In accordance with the Comprehensive Environmental Response, Compensation, and Liability Act of 1980 (CERCLA), 42 U.S.C. 9601 et seq., notice is hereby given that a proposed Agreement and Covenant Not to Sue (Prospective Purchaser Agreement) associated with the Grant Warehouse Time-Critical Removal Site (“Site”) was executed by the United States Environmental Protection Agency (EPA) on December 22, 2003. The proposed Prospective Purchaser Agreement would resolve certain potential claims of the United States under sections 106 and 107(a) of CERCLA, 42 U.S.C. 9606 and 9607(a), against the Portland Development Commission (“PDC”), an urban renewal agency of the city of Portland, Oregon.

DATES: Comments must be submitted on or before January 20, 2004.

ADDRESSES: The proposed Prospective Purchaser Agreement and additional background documents relating to the settlement are available for public inspection at the U.S. Environmental Protection Agency, 1200 Sixth Ave., Seattle, WA 98101. A copy of the proposed settlement may be obtained from Dean Ingemansen, Assistant Regional Counsel (ORC-158), Office of Regional Counsel, U.S. EPA Region 10, Seattle, WA 98101. Comments should reference “Portland Development Commission PPA, Grant Warehouse Time-Critical Removal Site” and “Docket No. CERCLA-10-2004-0022” and should be addressed to Dean Ingemansen at the above address.

FOR FURTHER INFORMATION CONTACT: Dean Ingemansen, Assistant Regional Counsel (ORC-158), Office of Regional Counsel, U.S. EPA Region 10, Seattle, WA 98101; phone: (206) 553-1744; fax: (206) 553-0163; e-mail: ingemansen.dean@epa.gov.

SUPPLEMENTARY INFORMATION: PDC plans to purchase the Site property, located at 3368 N.E. Martin Luther King, Jr. Blvd., Portland, Oregon, and consisting of Lots 29, 30, and 31 in Block 13, Albina, City of Portland, as part of the city's redevelopment of the Martin Luther King Boulevard corridor in NE Portland. PDC will purchase the property for its appraised value of $177,000.00, complete remediation of the property, and then redevelop the property which is located in a low-income, environmental justice community. PDC's redevelopment plans include construction of some low-income housing and more desirable retail businesses.

PDC is also planning to complete remediation of the Site property to a level that will allow for unrestricted use. EPA's time-critical removal action in 1998 and 1999 merely addressed the immediate environmental threats posed by the uncontrolled storage of hazardous substances at the Site, whereas PDC's additional cleanup actions will allow for residential as well as commercial uses at the Site. PDC has budgeted approximately $514,000 for remediation of the site property and for tearing down the warehouse itself. Part of this budget includes a $200,000 Brownfields Site Remediation grant from EPA.

At the same time as EPA is entering into this PPA, the United States is also entering into a consent decree with the current Site owner, Mr. Erwin Grant. The consent decree provides that Mr. Grant will sell the Site property to PDC for its appraised fair market value of $177,000.00, and that Mr. Grant will pass on to EPA one-half of that amount, or $88,500.00 in cash, which will be placed into the EPA Hazardous Substances Superfund. Mr. Grant will then receive contribution protection and a covenant not to sue from the United States. The United States Department of Justice has published a notice in the Federal Register requesting comments on the consent decree. Persons interested in submitting comments on the proposed consent decree should address those comments to the following: Assistant Attorney General, Environment and Natural Resources Division, PO Box 7611, U.S. Department of Justice, Washington, DC 20044-7611, and should refer to United States of America v. Erwin Grant and Real Property Located at 3368 N.E. Martin Luther King, Jr. Boulevard, D.J. Ref. 90-11-3-06611/1.

The Brownfields grant requires PDC to take title to the property before EPA can finalize the grant. EPA Headquarters has given PDC until January 29, 2004, to take title to the Site property. If PDC fails to take title by that date, the grant funding will no longer be available. EPA Headquarters has informed Region 10 and PDC that no extensions will be granted. As such, EPA is allowing fifteen days for public comment on the PPA. For fifteen calendar days following the date of publication of this notice, EPA will receive written comments relating to the proposed Prospective Purchaser Agreement. EPA's response to any comments received will be available for public inspection at the U.S. Environmental Protection Agency, 1200 Sixth Ave., Seattle, WA 98101.

Dated: December 23, 2003.
L. John Iani,
Regional Administrator, Region 10.

[FR Doc. 04-13 Filed 1-2-04; 8:45 am]

BILLING CODE 6560-50-P